DEPARTMENT OF AGRICULTURE

Submission for OMB Review; Comment Request

June 14, 2001.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Washington, DC 20503 and to Departmental Clearance Office, USDA, OCIO, Mail Stop 7602, Washington, DC 20250-7602. Comments regarding these information collections are best assured of having their full effect if received within 30 days of this notification. Copies of the submission(s) may be obtained by calling (202) 720-6746.

An agency may not conduct or sponsor a collection of information unless the collection of information displays a currently valid OMB control number and the agency informs potential persons who are to respond to the collection of information that such persons are not required to respond to the collection of information unless it displays a currently valid OMB control number.

Natural Resources Conservation Service

Title: Application for Payment.

OMB Control Number: 0578-0018.

Summary of Collection: The Conservation Program regulations at 7 CFR 622, 624, 631, 632, 636, 701, 702, 752, and 1467 set forth the basic policies, program provisions, and eligibility requirements for owners and operators to apply for application of payments after entering into and carrying out long-term conservation program contracts with technical assistance under the various programs. The Natural Resources Conservation Service (NRCS) is responsible for the administration of various conservation programs through NRCS delivery systems. NRCS will collect information using the Application for Payment form.

Need and Use of the Information: NRCS will collect information to provide program participants with a method for making application payment, provide information regarding completion of conservation program contract activities, provide certification of work performed with the required standards, determine division of payment, ascertain the status of debt register collections, and provide the responsible NRCS official with authority to make Federal cost-share payments to the land users or third party upon successful completion of a conservation program contract. The information collected will be used by NRCS to ensure the proper use of program funds. Without the information, funds appropriated by Congress could not be dispensed without the supporting information on the Application for Payment form.

Description of Respondents: Farms; Individuals or households; Not-for-profit institutions; State, Local or Tribal Government.

Number of Respondents: 35,540.

Frequency of Responses: Reporting: Annually; Other (as required for assistance).

Total Burden Hours: 20,731.

Animal and Plant Health Inspection Service

Title: Interstate Movement of Certain Tortoises.

OMB Control Number: 0579-0156.

Summary of Collection: These authorities (Title 21, U.S.C. authorizes sections 111, 114, 114a, 114-1, 115, 120, 121, 125, 126, 134a, 134c, 134f, and 134g of 21 U.S.C.) permit the Secretary of the United States Department of Agriculture (USDA) to prevent, control, and eliminate domestic diseases such as tuberculosis, as well as to take actions to prevent and to manage exotic diseases such as heartwater disease. The Veterinary Services Division of the Animal & Plant Health Inspection Service (APHIS) enforces regulations that pertain to the importation of animals and animal products into the United States and the prevention of foreign animal disease incursions into the United States. APHIS published an interim rule to allow the interstate movement of leopard tortoises, African spurred tortoises, and Bell's hingeback tortoises if a health certificate accompanies these tortoises. APHIS will collect information using APHIS form 7001.

Need and Use of the Information: APHIS will collect information to ensure that the interstate movement of these tortoises poses no risk of spreading exotic ticks within the United States. If the information is not collected APHIS would be forced to continue their complete ban on the interstate movement of leopard, African spurred, and Bell's hingeback tortoises.

Description of Respondents: Federal Government.

Number of Respondents: 150.

Frequency of Responses: Reporting: On occasion.

Total Burden Hours: 75.

Animal and Plant Health Inspection Service

Title: Citrus Canker: Commercial Citrus Tree Replacement Program.

OMB Control Number: 0579-0163.

Summary of Collection: The United States Department of Agriculture (USDA) is responsible for preventing plant pests and noxious weeds from entering the United States, preventing the spread of pests and weeds not widely distributed in the United States, and eradicating those imported pests and weeds when eradication is feasible. Chapter 8 of the Plant Quarantine Act (7 U.S.C. 161) provides authority for the Secretary of Agriculture to quarantine any State, Territory, or District of the United States to prevent the spread of insect pests and plant diseases (such as Citrus Canker) new or not widely distributed throughout the United States. The Plant Protection & Quarantine Division of USDA's Animal & Plant Health Inspection Service (APHIS) has regulations in place to prevent the interstate spread of citrus canker. APHIS will collect information using form PPQ 652.

Need and Use of the Information: APHIS will collect the owner's name, address, and a description of the owner's property, and certification statements that the trees removed from the owner's property were commercial citrus trees. The information will be used to verify the location and number of citrus trees for which the owner is requesting replacement funds. If the information were not collected APHIS would be unable to reimburse eligible grove owners for the loss of their trees.

Description of Respondents: Business or other for-profit.

Number of Respondents: 65.

Frequency of Responses: Reporting: On occasion.

Total Burden Hours: 15.

Animal and Plant Health Inspection Service

Title: Importation of Horses, Ruminants, Swine, and Dogs, Inspection and Treatment for Screwworm.

OMB Control Number: 0579-0165.

Summary of Collection: The Animal and Plant Health Inspection Service (APHIS) of the United States Department of Agriculture is charged with disease prevention. This agency regulates the importation of animals and animal products into the U.S. to guard against the introduction of exotic animal diseases. Title 21 U.S.C. authorizes sections 111, 114, 114a, 114-1, 115, 120, 125, 126, 134a, 134c, 134f, and 134g of 21 U.S.C. authorizes the Secretary to prevent, control and eliminate domestic diseases such as brucellosis, as well as to take actions to prevent and to manage exotic diseases such as exotic Newcastle disease and other foreign diseases. The regulations under which APHIS conduct disease prevention activities are contained in Title 9, Chapter 1, Subchapter D, Parts 91 through 99. These regulations govern the importation of animals, birds and poultry, certain animal and poultry products, and animal germplasm. The animal import regulations are being amended to require horses, ruminants, swine and dogs imported from regions of the world where screwworm is considered to exist to be inspected and treated for infestation with screwworm.

Need and Use of the Information: Horses, ruminants, swine, and dogs entering the United States from regions where screwworm is known to exist must be accompanied by a certificate, signed by a full-time salaried veterinary official of the exporting country, stating that these animals have been thoroughly examined, that they have been treated with ivermectin, that any visible wounds have been treated with camaphos, and the animals appear to be free of screwworm. This is necessary to prevent the introduction of screwworm into the United States. Screwworm is a pest native to tropical areas and causes extensive damage to livestock and other warm-blooded animals. If the information were collected less frequently or not collected at all, it would significantly cripple our ability to ensure that horses, ruminants, swine, and dogs imported into the United States are not carrying screwworm. Such a development would make a screwworm incursion much more likely, with economically damaging effects on the U.S. equine, cattle, and swine industries.

Description of Respondents: Federal Government; State, Local or Tribal.

Number of Respondents: 36.

Frequency of Responses: Reporting: On occasion.

Total Burden Hours: 34.

Animal and Plant Health Inspection Service

Title: Bluetongue Surveillance Pilot Program (BSPP).

OMB Control Number: 0579-NEW.

Summary of Collection: The Department of Agriculture is responsible for protecting the health of animals and poultry by preventing the spread of contagious diseases from one State to another and by eradicating such diseases from the United States when feasible. 7 U.S.C. 391, the Animal Industry Act of 1884 mandates the collection and dissemination of animal and poultry health data and information. APHIS is initiating the Bluetongue Surveillance Pilot Program Sentinel Trail that will take place on farms in Nebraska, South Dakota, North Dakota, and Montana. Bluetongue is a virus transmitted by blood-feeding midges, which breed in cattle manure and transmit the viruses between hosts including antelope, cattle, deer, elk, goats, and sheep. Cattle are infected naturally by these viruses but rarely show clinical signs. APHIS will collect information using several forms.

Need and Use of the Information: APHIS will collect information to: (1) Develop a pilot sentinel system as a tool for substantiating disease freedom and compare it to other surveillance options; (2) test Bluetongue disease freedom in two demarcated populations (free and infected); (3) develop data on the epidemiology of Bluetongue in a seasonally infected area. The information from the study will be disseminated and used by livestock producers, animal health officials, private veterinary practitioners, public health officials, the media, educational institutions, and others to improve agricultural productivity and competitiveness.

Description of Respondents: Business or other for-profit; Federal Government.

Number of Respondents: 1,365.

Frequency of Responses: Reporting: On occasion.

Total Burden Hours: 1,373.

Agricultural Marketing Service

Title: Poultry Market News Report.

OMB Control Number: 0581-0033.

Summary of Collection: The Agricultural Marketing Act of 1946, legislates that USDA shall “collect and disseminate marketing information * * *” and “* * * collect, tabulate, and disseminate statistics on marketing agricultural products, including, but not restricted to statistics on marketing supplies, storage, stocks, quantity, quality, and condition of such products in various positions in the marketing channel, use of such products, and shipments and unloads thereof.” The mission of Market News is to provide current unbiased, factual information to all members of the Nation's agricultural industry, from farm to retailer.

Need and Use of the Information: Market News Reports aid government agencies in tracking prices, wages and productivity or as indicators of economic activity. Market news information is contained in published reports distributed by other government agencies—for example the “Situation and Outlook: reports by the Economic Research Service and is used by private business firms, as well as, educational institutions, agricultural colleges and universities. Also, the poultry and egg industry uses the data to help determine future production and marketing projections. The absence of this data would deny primary and secondary users information that otherwise would be available to aid them in their production and marketing decisions, analyses, research and knowledge of current market conditions. The omission of these data could adversely affect prices, supply, and demand.

Description of Respondents: Business or other for-profit.

Number of Respondents: 1,720.

Frequency of Responses: Reporting: Weekly; Monthly.

Total Burden Hours: 17,657.

Agricultural Marketing Service

Title: 7 CFR Part 70. Regulations for Voluntary Grading of Poultry Products and Rabbit Products.

OMB Control Number: 0581-0127.

Summary of Collection: The Agricultural Marketing Act of 1946 (60 Stat. 1087-1091, as amended; 7 U.S.C. 1621-1627) (AMA) directs and authorizes the Department to develop standards of quality, grades, grading programs, and services to enable a more orderly marketing of agricultural products so trading may be facilitated and so consumers may be able to obtain products graded and identified under USDA programs. The Agricultural Marketing Service (AMS) carries out regulations, which provide a voluntary program for grading poultry and rabbit products. This program is voluntary where respondents would need to request or apply for the specific service they wish.

Need and Use of the Information: Because the AMA requires that the cost of the service be assessed and collected, there is no alternative but to provide voluntary programs on a fee for service basis and to collect the information needed to establish the cost. The information collected is used to administer the grading services requested by the respondents and only by authorized representatives of the USDA.

Description of Respondents: Business or other for-profit; Federal Government; State, Local or Tribal Government.

Number of Respondents: 374.

Frequency of Responses: Reporting: On occasion; Semi-annually; Monthly; Annually; Other.

Total Burden Hours: 1,781.

Food and Nutrition Service

Title: National School Lunch Program.

OMB Control Number: 0584-0006.

Summary of Collection: Section 9 of the National School Lunch Act (NSLA) gives the Secretary authority to prescribe the minimum nutritional requirements for lunches served by schools participating in the School Lunch Program. The current program regulations include the third party disclosure provisions which require school food authorities to inform children and their parents of the use of products or dishes containing more than 30 parts fully hydrated vegetable protein products to less than 70 parts beef, pork, poultry or seafood in food served under the NSLP. The Food and Nutrition Service will collect information using forms FNS-66, 640, and 67.

Need and Use of the Information: The information will be collected to ensure that the alternatives implemented by the States and the school food authorities adequately meet program requirements and goals. The information gathered will contribute to a comprehensive review of program operations and will be available for monitoring purposes.

Description of Respondents: State, Local, or Tribal Government; Individuals or households; Business or other for-profit; Nor-for-profit institutions; Federal Government.

Number of Respondents: 118,051.

Frequency of Responses: Recordkeeping; Reporting: On occasion; Quarterly; Monthly; Annually; Semi-annually; Other.

Total Burden Hours: 9,462,622.

Food and Nutrition Service

Title: 7 CFR Part 220 School Breakfast Program.

OMB Control Number: 0584-0012.

Summary of Collection: Section 4 of the Child Nutrition Act (CNA) of 1966 as amended, authorizes the School Breakfast Program (SBP). The Food and Nutrition Service (FNS) administers the School Breakfast Program on behalf of the Secretary of Agriculture so that needy children may receive their breakfasts free or at a reduced price. The current program regulations include third party disclosure provisions which requires school food authorities to inform children and their parents of the use of products or dishes containing more than 30 parts fully hydrated vegetable protein products to less than 70 parts beef, pork, poultry or seafood in food served under the SBP.

Need and Use of the Information: School food authorities provide information to State agencies. The State agencies report to FNS. FNS uses the information submitted to determine the amount of funds to be reimbursed, evaluate and adjust program operations, and to develop projections for future program operations.

Description of Respondents: State, Local, or Tribal Government; Individuals or households; Business or other for-profit; Not-for-profit institutions; Federal Government.

Number of Respondents: 82,748.

Frequency of Responses: Recordkeeping; Reporting: On occasion; Quarterly; Monthly; Semi-annually; Annually; Other.

Total Burden Hours: 4,895,796.

Forest Service

Title: 36 CFR Part 228, Subpart C—Disposal of Mineral Materials.

OMB Control Number: 0596-0081.

Summary of Collection: The Forest Service (FS) is responsible for overseeing the management of National Forest System land. The Multiple-Use Mining Act of 1955 (30 U.S.C. 601, 603, 611-615) gives the FS specific authority to manage the disposal of mineral materials mined from National Forest land. FS uses form FS-2800-9 to collect detailed information on the planned mining and disposal operations as well as a contract for the sale of mineral materials.

Need and Use of the Information: FS will use information collected from the public to ensure that environmental impacts of mineral material disposal are minimized. A review of the operating plan provides the authorized officer the opportunity to determine if the proposed operation is appropriate and consistent with all applicable land management laws and regulations. The information also provides the means of documenting planned operations and the terms and conditions that the FS deems necessary to protect surface resources.

Description of Respondents: Business or other for-profit; Individuals or households.

Number of Respondents: 3,000.

Frequency of Responses: Reporting: On occasion.

Total Burden Hours: 7,500.

Nancy B. Sternberg,
Departmental Information Clearance Officer.

[FR Doc. 01-15407 Filed 6-18-01; 8:45 am]

BILLING CODE 3410-01-M